DEPARTMENT OF LABOR

Employment and Training Administration

[A-W-57,150]

Gas Transmission Services, LLC Portland, OR; Notice of Termination of Investigation

Pursuant to Section 221 of the Trade Act of 1974, as amended, an investigation was initiated on May 11, 2005 in response to a petition filed on behalf of workers at Gas Transmission Services, LLC, Portland, Oregon.

The petitioner has requested that the petition be withdrawn. Consequently, the investigation has been terminated.

Signed at Washington, DC this 25th day of May 2005.
Richard Church,
Certifying Officer, Division of Trade Adjustment Assistance.

[FR Doc. E5-3039 Filed 6-10-05; 8:45 am]

BILLING CODE 4510-30-P